DEPARTMENT OF THE INTERIOR

National Park Service

[NPS-AKRO-ANIA-LACL-WRST-19121; PPAKAKROR4; PPMPRLE1Y.LS0000]

Notice of Open Public Meetings and Teleconferences for the National Park Service Alaska Region Subsistence Resource Commission Program

AGENCY: National Park Service, Interior.

ACTION: Meeting notices.

SUMMARY: As required by the Federal Advisory Committee Act (16 U.S.C. Appendix 1-16), the National Park Service (NPS) is hereby giving notice that the Aniakchak National Monument Subsistence Resource Commission (SRC), the Lake Clark National Park SRC and the Wrangell-St. Elias National Park SRC will hold public meetings to develop and continue work on NPS subsistence program recommendations, and other related regulatory proposals and resource management issues. The NPS SRC program is authorized under Section 808 of the Alaska National Interest Lands Conservation Act, (16 U.S.C. 3118), title VIII.

Aniakchak National Monument SRC Meeting/Teleconfernce Date and Location: The Aniakchak National Monument SRC will meet from 1:30 p.m. to 5 p.m. or until business is completed on Thursday, September 24, 2015, at the Chignik Lagoon Subsistence Hall in Chignik Lake, AK. Teleconference participants must call the National Park Service office in King Salmon, AK at (907) 246-2154 or (907) 246-3305, by Thursday, September 17, 2015, prior to the meeting to receive teleconference passcode information. For more detailed information regarding this meeting, or if you are interested in applying for SRC membership contact Designated Federal Official Diane Chung, Superintendent, at (907) 442-3890, or via email at diane_chung@nps.gov or Linda Chisholm, Subsistence Coordinator, at (907) 246-2154, or via email at linda_chisholm or Clarence Summers, Subsistence Manager, at (907) 644-3603 or via email at clarence_summers@nps.gov.

Lake Clark National Park SRC Meeting/Teleconfernce Date and Location: The Lake Clark National Park SRC will meet from 1 p.m. to 5 p.m. or until business is completed on Wednesday, October 7, 2015, at the National Park Service Visitor Center in Port Alsworth, AK. Teleconference participants must call the National Park Service office at (907) 644-3626 or (907) 781-2218, by Wednesday, September 30, 2015, prior to the meeting to receive teleconference passcode information. For more detailed information regarding this meeting, or if you are interested in applying for SRC membership, contact Designated Federal Official Margaret L. Goodro, Superintendent, at (907) 644-3627, or via email at margaret_goodro@nps.gov, or Liza Rupp, Subsistence Manager, at (907) 644-3603, or via email at liza_rupp@nps.gov or Clarence Summers, Subsistence Manager, at (907) 644-3603 or via email at clarence_summers@nps.gov.

Wrangell-St. Elias National Park SRC Meeting/Teleconference Date and Location: The Wrangell-St. Elias National Park SRC will meet from 9 a.m. to 5 p.m. on Monday, October 19, 2015, and Tuesday, October 20, 2015, or until business is completed at the Tazlina Village Hall in Tazlina, AK. Evening sessions may take place on these dates at the call of the chair. If the work of the SRC is completed on Monday, October 19, 2015, the SRC will not meet on Tuesday, October 20, 2015. Teleconference participants must call National Park Service at (907) 822-7236 or (907) 822-5234, by Wednesday, October 14, 2015, to receive teleconference information. For more detailed information regarding this meeting, or if you are interested in applying for SRC membership, contact Barbara Cellarius, Subsistence Manager, at (907) 822-7236 or via email at barbara_cellarius@nps.gov or Clarence Summers, Subsistence Manager, at (907) 644-3603 or via email at clarence_summers@nps.gov.

Proposed Meeting Agenda: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Reports

a. Ranger Update

b. Resource Manager's Report

c. Subsistence Manager's Report

14. Public and Other Agency Comments

15. Work Session

16. Set Tentative Date and Location for Next SRC Meeting

17. Adjourn Meeting

SRC meeting locations and dates may change based on inclement weather or exceptional circumstances. If the meeting date and location are changed, the Superintendent will issue a press release and use local newspapers and radio stations to announce the rescheduled meeting.

SUPPLEMENTARY INFORMATION: SRC meetings are open to the public and will have time allocated for public testimony. The public is welcome to present written or oral comments to the SRC. SRC meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Dated: August 31, 2015.
Alma Ripps,
Chief, Office of Policy.

[FR Doc. 2015-21949 Filed 9-2-15; 8:45 am]

BILLING CODE 4310-EE-P